AGENCY FOR INTERNATIONAL DEVELOPMENT

Board for International Food and Agricultural Development; One Hundred and Thirty Fifth Meeting, Notice of Meeting

Pursuant to the Federal Advisory Committee Act, notice is hereby given of the one hundred and thirty-fifth meeting of the Board for International Food and Agricultural Development (BIFAD). Notice may be published less than fifteen days prior to the meeting due to scheduling conflicts. The meeting will be held from 8 a.m. to 1 p.m. on October 17 , 2002 in the Oceanic A&B Meeting Rooms on the Concourse Level of the Ronald Reagan Building (RRB), 1300 Pennsylvania Avenue, NW, Washington, DC.

The program will be devoted to the inauguration of a new Board, a discussion of long-term training, and USAID Bureau reports on the status of agricultural or rural livelihoods and the involvement of universities.

The meeting is free and open to the public. Those wishing to attend the meeting or obtain additional information about BIFAD should contact Mr. Lawrence Paulson, the Designated Federal Officer for BIFAD. Write him in care of the U.S. Agency for International Development, Ronald Reagan Building, Office of Agriculture and Food Security, 1300 Pennsylvania Avenue, NW, Room 2.11-073, Washington, DC 20523-2110 or telephone him at (202) 712-1436 or fax (202) 216-3010.

Lawrence Paulson,
USAID Designated Federal Officer for BIFAD, Office of Agriculture and Food Security, Bureau for Economic Growth, Agriculture & Trade.

[FR Doc. 02-25600 Filed 10-7-02; 8:45 am]

BILLING CODE 6116-01-P